DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: Survey of Construction Questionnaire for Building Permit Official.

OMB Control Number: 0607-0125.

Form Number(s): SOC-QBPO.

Type of Request: Extension of a currently approved collection.

Number of Respondents: 1,017.

Average Hours per Response: 15 minutes.

Burden Hours: 254.

Needs and Uses: The U.S. Census Bureau is requesting an extension of the currently approved collection for the Survey of Construction Questionnaire for the Building Permit Official (SOC-QBPO). The information collected on the SOC-QBPO is necessary to carry out the sampling for the Survey of Housing Starts, Sales and Completions (OMB number 0607-0110), also known as the Survey of Construction (SOC). Government agencies and private companies use statistics from the SOC to monitor and evaluate the large and dynamic housing construction industry.

The SOC-QBPO is an electronic questionnaire. Census Bureau field representatives (FRs) either call or visit permit offices to enter their survey responses into a laptop computer using the Computer Assisted Personal Interviewing (CAPI) software formatted for the SOC-QBPO. The FRs use the SOC-QBPO to obtain information on the operating procedures of a permit office. This enables them to locate, classify, list, and sample building permits for residential construction. These permits are used as the basis for the sample selected for SOC. The Census Bureau also uses the information to verify and update the geographic coverage of permit offices. The questions asked during the interview and the size of the sample will not change.

Failure to collect this information would make it difficult, if not impossible, to accurately classify and sample building permits for the SOC. Data for two principal economic indicators are produced from the SOC: New Residential Construction (housing starts and housing completions) and New Residential Sales. Government agencies use these statistics to evaluate economic policy, measure progress towards the national housing goal, make policy decisions, and formulate legislation. For example, the Board of Governors of the Federal Reserve System uses data from this survey to evaluate the effect of interest rates in this interest-rate sensitive area of the economy. The Bureau of Economic Analysis (BEA) uses the data in developing the Gross Domestic Product (GDP). The private sector and other data users from Department of Housing and Urban Development (HUD) and the National Association of Home Builders (NAHB) use the information for estimating the demand for housing, building materials and the many products used in new housing and to schedule production, distribution, and sales efforts. The financial community uses the data to estimate the demand for short-term (construction loans) and long-term (mortgages) borrowing.

Affected Public: State, local or Tribal government.

Frequency: Annually.

Respondent's Obligation: Voluntary.

Legal Authority: The SOC and this collection are authorized under Title 13, United States Code, Sections 131 and 182.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Department PRA Clearance Officer, Office of the Chief Information Officer, Commerce Department.

[FR Doc. 2019-28092 Filed 12-27-19; 8:45 am]

BILLING CODE 3510-07-P